DEPARTMENT OF ENERGY

Federal Energy Regulatory Commission

[Docket No. EL05-83-000]

Aquila, Inc., Aquila Long Term, Inc., Aquila Merchant Services, Inc., Aquila Piatt County L.L.C., MEP Clarksdale Power, LLC, MEP Flora Power, LLC., MEP Investments, LLC, MEP Pleasant Hill Operating, LLC, and Pleasant Hill Marketing, LLC; Notice of Institution of Proceeding and Refund Effective Date

April 19, 2005.

On April 14, 2005, the Commission issued an order initiating a proceeding in Docket No. EL05-83-000 under section 206 of the Federal Power Act concerning the justness and reasonableness of the market-based rates of Aquila, Inc., and its affiliates, specified in the caption above, in the Missouri and Kansas control areas. Aquila, Inc., 111 FERC ¶ 61,030 (2005).

The refund effective date in Docket No. EL05-83-000, established pursuant to section 206 of the Federal Power Act, will be 60 days following publication of this notice in the Federal Register.

Magalie R. Salas,
Secretary.

[FR Doc. E5-2034 Filed 4-27-05; 8:45 am]

BILLING CODE 6717-01-P